DEPARTMENT OF LABOR

Employment And Training Administration

[TA-W-56,708]

AVX Corporation, Subsidiary Of Kyocera Corporation Including On-Site Leased Workers of Express Personnel Services, Raleigh, North Carolina; Amended Certification Regarding Eligibility to Apply for Worker Adjustment Assistance and Negative Determination Regarding Eligibility to Apply for Alternative Trade Adjustment Assistance

In accordance with Section 223 of the Trade Act of 1974 (19 U.S.C. 2273) the Department of Labor issued a Certification of Eligibility to Apply for Worker Adjustment Assistance and Negative Determination Regarding Eligibility to Apply for Alternative Trade Adjustment Assistance on March 25, 2005, applicable to workers of AVX Corporation, subsidiary of Kyocera Corporation, Raleigh, North Carolina. The notice will be published soon in the Federal Register.

At the request of a company official, the Department reviewed the certification for workers of the subject firm. New information shows that leased workers of Express Personnel Services were employed on-site at the Raleigh, North Carolina location of AVX Corporation, subsidiary of Kyocera Corporation.

Information also shows that some workers separated from employment at the subject firm had their wages reported under a separate unemployment insurance (UI) tax account for Express Personnel Services.

Accordingly, the Department is amending the certification to properly reflect this matter.

The intent of the Department's certification is to include all workers employed at AVX Corporation, subsidiary of Kyocera Corporation, who were adversely affected by a shift in production to Mexico.

The amended notice applicable to TA-W-56,708 is hereby issued as follows:

“All workers of AVX Corporation, subsidiary of Kyocera Corporation, including on-site leased workers of Express Personnel Services, Raleigh, North Carolina, who became totally or partially separated from employment on or after March 8, 2004, through March 25, 2007, are eligible to apply for adjustment assistance under Section 223 of the Trade Act of 1974.”

I further determine that all workers of AVX Corporation, subsidiary of Kyocera Corporation including on-site leased workers of Express Personnel Services, Raleigh, North Carolina are denied eligibility to apply for alternative trade adjustment assistance under Section 246 of the Trade Act of 1974.

Signed at Washington, DC this 25th day of April 2005.
Elliott S. Kushner,
Certifying Officer, Division of Trade Adjustment Assistance.

[FR Doc. E5-2133 Filed 5-2-05; 8:45 am]

BILLING CODE 4510-30-P